DEPARTMENT OF AGRICULTURE

Agricultural Marketing Service

[Doc No. AMS-SC-18-0086; SC19-33/35-1]

Notice of Request for Renewal of a Recordkeeping Burden

AGENCY: Agricultural Marketing Service, USDA.

ACTION: Notice and request for comments.

SUMMARY: In accordance with the Paperwork Reduction Act of 1995, this notice announces the Agricultural Marketing Service's (AMS) intention to request for renewal a recordkeeping burden for the information collection for the Export Fruit Acts covering exports of apples and grapes.

DATES: Comments on this notice are due by April 22, 2019 to be assured of consideration.

FOR FURTHER INFORMATION CONTACT: Contact Andrew Hatch, Chief, Program Services Branch, Marketing Order and Agreement Division, Specialty Crops Program, AMS, USDA, 1400 Independence Avenue SW, STOP 0237, Room 1406-S, Washington, DC, 20250-0237; Telephone (202) 720-6862 or Email: andrew.hatch@usda.gov.

Small businesses may request information on complying with the regulation and responding to this notice by contacting Richard Lower, Marketing Order and Agreement Division, Specialty Crops Program, AMS, USDA, 1400 Independence Avenue SW, STOP 0237, Washington, DC 20250-0237; Telephone: (202) 720-2491, Fax: (202) 720-8938, or Email: richard.lower@usda.gov.

Comments: Comments should reference the document number and the date and page number of this issue of the Federal Register, and be mailed to the Docket Clerk, Specialty Crops Program, AMS, USDA, 1400 Independence Avenue SW, Room 1406-S, Washington, DC 20250-0237; Fax: (202) 720-8938; or submitted through the internet at http://www.regulations.gov.

SUPPLEMENTARY INFORMATION:

Title: Export Fruit Regulations—Export Apple Act (7 CFR part 33) and the Export Grape and Plum Act (7 CFR part 35).

OMB Number: 0581-0143.

Expiration Date of Approval: September 30, 2019.

Type of Request: Request for Renewal of a Recordkeeping Burden.

Abstract: Fresh apples and grapes grown in the United States shipped to any foreign destination must meet minimum quality and other requirements established by regulations issued under the Export Apple Act (7 U.S.C. 581-590) and the Export Grape and Plum Act (7 U.S.C. 591-599) (Acts), which are found at 7 CFR parts 33 and 35, respectively. Both Acts were designed to promote foreign trade in the export of apples, grapes and plums grown in the United States; to protect the reputation of the American-grown commodities; and to prevent deception or misrepresentation of the quality of such products moving in foreign commerce. The Acts have been in effect since 1933 (apples) and 1960 (grapes). Currently, plums are not regulated under the Export Grape and Plum Act.

The Secretary of Agriculture is authorized to oversee the implementation of the Acts and issue regulations regarding that activity. Regulations issued under the Acts cover exports of fresh apples and grapes grown in the United States and shipped to foreign destinations, except for grapes shipped to Canada or Mexico and apples in bulk bins shipped to Canada. Certain limited quantity provisions may exempt some shipments from this information collection. Regulations issued under the Acts (7 CFR 33.11 for apples and § 35.12 for grapes) require that the U.S. Department of Agriculture (USDA) officially inspect and certify that each export shipment of fresh apples and grapes complies with quality and shipping requirements effective under the Acts.

The information collection requirements in this request are essential to carry out the intent and administration of the Acts. The currently approved collection under OMB No. 0581-0143 authorizes the use of an Export Form Certificate (SC-205). Federal or Federal-State Inspection Program (FSIP) inspectors use the Export Form Certificate to certify inspection of the shipment for exports bound for non-Canadian destinations. Procedures require shippers to maintain and provide, upon USDA's request, a paper or electronic copy of the SC-205 when needed for USDA to monitor compliance with regulations. Based on procedures amended in 2016 and approved by OMB for information collection purposes, carriers, which transport goods on behalf of shippers, are no longer required to maintain a copy of the SC-205. Earlier versions of the previously used FV-205 and FV-207 make up the SC-205.

Estimate of Burden: Public recordkeeping burden for this collection of information is estimated to average 0.083 hours per response.

Respondents (Recordkeepers): Apple and grape export shippers and carriers.

Estimated Number of Recordkeepers: 94 (75 shippers and carriers of exported apples and 19 shippers and carriers of exported grapes).

Estimated Total Annual Responses: 52,788.

Estimated Number of Responses per Recordkeeper: 564 for apples and 550 for grapes.

Estimated Total Annual Burden on Recordkeepers: 4,378 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will also become a matter of public record. All comments received will be available for public inspection at the street address in the “Comment” section and can be viewed at: www.regulations.gov.

Dated: February 13, 2019.
Bruce Summers,
Administrator, Agricultural Marketing Service.

[FR Doc. 2019-02700 Filed 2-19-19; 8:45 am]

BILLING CODE 3410-02-P